DEPARTMENT OF THE INTERIOR

National Park Service

National Register of Historic Places; Notification of Pending Nominations and Related Actions

Nominations for the following properties being considered for listing or related actions in the National Register were received by the National Park Service before January 22, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by March 1, 2005.

Carol D. Shull,
Keeper of the National Register of Historic Places.

ILLINOIS

Cook County

Chicago Club, 81 East Van Buren St., Chicago, 05000109

Garden Homes Historic District, Roughly bounded by S. Wabash Ave., E. 87th St., S. Indiana Ave. and E. 89th St., Chicago, 05000108

Glasner, William A., House, 850 Sheridan Rd., Glencoe, 05000105

Humphrey, John, House, 9830 W. 144th Place, Orland Park, 05000114

Narragansett, The, 1640 E. Fiftieth St., Chicago, 05000107

Oakton Historic District, Roughly bounded by Oakton St., Howard St., Ridge Ave., and Asbury Ave., Evanston, 05000106

Greene County

Black Homestead Farm, RR 3, Carrollton, 05000110

Jo Daviess County

Townsend House, 117 N. Canyon Park Rd., Stockton, 05000111

Winnebago County

Rockford Elk's Lodge #64, 210 W. Jefferson, Rockford, 05000113

MICHIGAN

Ontonagon County

Bergland Administrative Site, M-28, Bergland, 05000103

MISSOURI

St. Louis Independent City

Gravois—Jefferson Streetcar Suburb Historic District (South St. Louis Historic Working and Middle Class Streetcar Suburbs MPS), Grovois and S. Jefferson, S. Jefferson and S. Broadway, Meramac, S. Gran and Gravois, St. Louis (Independent City), 05000115

WISCONSIN

Milwaukee County

Prospect Hill Historic District, 2700 blk. of N. Hackett Ave., N. Shepard Ave., N. Summit Ave. and 2804-06 E. Park Place, Milwaukee, 05000104

[FR Doc. 05-2742 Filed 2-11-05; 8:45 am]

BILLING CODE 4312-51-P